DEPARTMENT OF HEALTH AND HUMAN SERVICES

Substance Abuse and Mental Health Services Administration

Statement of Organization, Functions, and Delegations of Authority

Part M of the Substance Abuse and Mental Health Services Administration (SAMHSA) Statement of Organization, Functions, and Delegations of Authority for the Department of Health and Human Services at 72, Number 188, page 55232, September 28, 2007, is amended to reflect changes to the structure and functional statements for the Office of Program Services (OPS), Division of Management Systems (DMS). This amendment reflects the deletion of references to the information technology (IT) functions within the functional statement of DMS. In addition, it reflects the establishment of a new Division of Technology Management (DTM), within OPS. These changes will strengthen the management of this key function (IT) and provide better customer service and program coordination. The changes are as follows:

Section M.20, Functions is amended as follows:

The functional statements for the Office of Program Services (OPS), Division of Management Systems (DMS) is replaced, and a new functional statement within OPS is established for the new Division of Technology Management (DTM).

Division of Management Systems (MBC)

(1) Provides leadership in the development of policies for and the analysis, performance measurement, and improvement of SAMHSA administrative and management systems; (2) coordinates with other service providers the provision of human resource management services, equal employment opportunity services, and personnel security services, working with HHS service components and outside organizations as necessary and monitoring their performance; (3) manages the SAMBHSA ethics program; (4) coordinates and serves as a focal point for SAMHSA intern and summer employment programs; (5) provides advisory services to managers and supervisors in such matters as organizational development, analysis, performance, and performance measurement; (6) coordinates General Accounting Office and Office of the Inspector General reviews and information requests, internal control reviews, and Federal Managers Financial Integrity Act responses; (7) plans and coordinates various management activities such as records management, forms management, Privacy Act, and OPS Freedom of Information Act requests; (8) coordinates the Competitive Sourcing program for the agency, including the annual Federal Activities Inventory Reform Act (FAIR Act) Inventory, and activities and studies conducted in accordance in OMB Circular A-76, regarding competition of commercial activities; (9) develops, maintains, and manages administrative management systems regarding policies and procedures.

Division of Technology Management (MBJ)

(1) Provides leadership in the development of policies for and the analysis, performance measurement, and improvement of SAMHSA information systems; (2) Manages, operates, and enhances SAMHSA-wide administrative applications software systems; (3) coordinates with other service providers the provision of IT services, including operation of the local and wide area networks, personal computers, network servers, electronic mail and faxes, and general computer repairs, working with HHS service components and outside organizations as necessary and monitoring their performance; (4) serves as the Agency focal point for IT policy, strategic planning, budget preparation, coordination with the Department regarding these issues, and the submission of required reports to the Department on a timely basis; (5) makes certain that the appropriate level of IT security is in place so that the safety of Agency data can be assured; (6) oversees Agency-wide database administration and systems configuration management, providing advice, assistance, and training to Agency staff to obtain maximum utilization of and services from its information/application systems and databases; (7) exercises clearance authority for Agency IT management projects; and (8) reviews and analyzes new IT management developments and ensures necessary support services are provided.

Delegation of Authority

All delegations and redelegations of authority to officers and employees of SAMHSA which were in effect immediately prior to the effective date of this reorganization shall continue to be in effect pending further redelegations, providing they are consistent with the reorganization.

These organizational changes are effective: October 9, 2007.
Terry L. Cline,
Administrator.

[FR Doc. 07-5060 Filed 10-12-07; 8:45 am]

BILLING CODE 4160-01-M